JUDICIAL CONFERENCE OF THE UNITED STATES

Advisory Committees on the Federal Rules of Appellate, Bankruptcy, and Civil Procedure; Hearings on Proposed Amendments to the Appellate, Bankruptcy, and Civil Rules

AGENCY: Advisory Committees on the Federal Rules of Appellate Bankruptcy, and Civil Procedure, Judicial Conference of the United States.

ACTION: Notice of proposed amendments and open hearings.

The Advisory Committees on Appellate, Bankruptcy, and Civil Rules have proposed amendments to the following rules:

Appellate Rules: 3, 6, 42, and Forms 1 and 2.

Bankruptcy Rules: 2005, 3007, 7007.1, and 9036.

Civil Rule: 7.1.

The text of the proposed rules and the accompanying committee notes, along with the related forms, are posted on the Judiciary's website at: http://www.uscourts.gov/rules-policies/proposed-amendments-published-public-comment.

All written comments and suggestions with respect to the proposed amendments may be submitted on or after the opening of the period for public comment on August 19, 2019, but no later than February 19, 2020. Written comments must be submitted electronically, following the instructions provided on the website. All comments submitted will be posted on the website and available to the public.

Public hearings are scheduled on the proposed amendments as follows:

• Appellate Rules in Washington, DC, on October 30, 2019, and in Phoenix, AZ, on January 27, 2020;

• Bankruptcy Rules in Kansas City, MO, on January 7, 2020, and in Phoenix, AZ on January 27, 2020; and

• Civil Rules in Washington, DC, on October 28, 2019, and in Phoenix, AZ, on January 27, 2020.

Those wishing to testify must contact the Secretary of the Committee on Rules of Practice and Procedure by email at: RulesCommittee_Secretary@ao.uscourts.gov, at least 30 days before the hearing.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820.

Dated: August 8, 2019.
Rebecca A. Womeldorf,
Secretary, Committee on Rules of Practice and Procedure, Judicial Conference of the United States.

[FR Doc. 2019-17272 Filed 8-16-19; 8:45 am]

BILLING CODE 2210-55-P